Title 3—

The President

Proclamation 10318 of December 2, 2021

International Day of Persons With Disabilities, 2021

By the President of the United States of America

A Proclamation

Thirty-one years ago, the bipartisan passage of the Americans with Disabilities Act (ADA) enshrined our commitment to building a better Nation for all of us. In the years since, we have made profound progress to advance the rights, opportunities, full participation, and economic self-sufficiency of people with disabilities—both here at home and in nations around the world. On the International Day of Persons with Disabilities, we reaffirm the full promise of dignity, equity, and respect due to all disabled people and recognize the work that still remains to fully deliver on that promise.

I was proud to co-sponsor the ADA as a member of the United States Senate. Today, that law remains a vital source of opportunity and dignity—a defense against discrimination and a path to independence. My Administration continues to build on the legacy of the ADA here at home and lead efforts for disability-inclusive democracies around the world. Earlier this year, I signed Executive Orders to recruit and retain a workforce that truly reflects the American people—including Americans with disabilities—and to help ensure that people with disabilities can exercise their sacred right to vote on a full and equal basis.

We know that—both here in America and around the world—women and girls with disabilities are disproportionately impacted by gender inequality. That is why my Administration developed the first-ever National Strategy on Gender Equity and Equality, which aims to address discrimination rooted in the nexus of both gender and disability. The American Rescue Plan included landmark support for people with disabilities—including historic funding to expand home- and community-based services under Medicaid, which is enabling more Americans than ever to live safely and independently in their own homes. My Administration's Build Back Better plan will further that commitment by making the most transformative investment in access to home care in 40 years—providing life-changing support to people with disabilities and the dedicated workers who help care for them.

To uphold and advance the human rights of people with disabilities worldwide, I reestablished the role of Special Advisor on International Disability Rights at the Department of State. My Administration will continue to take domestic and international actions to make democracy more accessible around the world. The Summit for Democracy on December 9-10 will affirm that a government of, by, and for the people—including those with disabilities—remains humanity's most enduring means to advance peace, prosperity, and security.

Today and every day, we reaffirm our commitment to ensuring dignity, equity, and respect for all people with disabilities. As we continue to build back better and address the challenges of the 21st century, we will ensure that we deal everybody in and bring everyone along.

NOW, THEREFORE, I, JOSEPH R. BIDEN JR., President of the United States of America, by virtue of the authority vested in me by the Constitution and the laws of the United States, do hereby proclaim December 3, 2021, as International Day of Persons with Disabilities. I call on all Americans to observe this day with appropriate ceremonies, activities, and programs.

IN WITNESS WHEREOF, I have hereunto set my hand this second day of December, in the year of our Lord two thousand twenty-one, and of the Independence of the United States of America the two hundred and forty-sixth.

[FR Doc. 2021-26588

Filed 12-6-21; 8:45 am]

Billing code 3395-F2-P